DEPARTMENT OF COMMERCE

National Oceanic and Atmospheric Administration

50 CFR Part 622

[Docket No. 140214145-4145-01]

RIN 0648-BD81

Fisheries of the Caribbean, Gulf of Mexico, and South Atlantic; Coral, Coral Reefs, and Live/Hard Bottom Habitats of the South Atlantic Region; Amendment 8; Correction

AGENCY: National Marine Fisheries Service (NMFS), National Oceanic and Atmospheric Administration (NOAA), Commerce.

ACTION: Proposed rule; correction.

SUMMARY: NMFS published a proposed rule on June 3, 2014, to, in part, implement provisions that would expand portions of the northern and western boundaries of the Oculina Bank habitat area of particular concern (HAPC) (Oculina Bank HAPC). The proposed rule stated “the proposed rule would increase the size of the Oculina Bank HAPC by 405.42 square miles (1,050 square km), for a total area of 694.42 square miles (1,798.5 square km)”. However, this is incorrect. The proposed rule would actually increase the size of the Oculina Bank HAPC by 343.42 square miles (889.5 square km), for a total area of 632.42 square miles (1,638 square km). This notification corrects these two values published in the proposed rule.

DATES: The public comment period for the proposed rule that published at 79 FR 31907, June 3, 2014, ends on July 3, 2014.

FOR FURTHER INFORMATION CONTACT: Anne Marie Eich, 727-824-5305; email: annemarie.eich@noaa.gov.

SUPPLEMENTARY INFORMATION: On June 3, 2014, NMFS published a proposed rule in the Federal Register (79 FR 31907) to implement provisions that would expand portions of the northern and western boundaries of the Oculina Bank HAPC and allow transit through the Oculina Bank HAPC by fishing vessels with rock shrimp onboard; modify vessel monitoring systems (VMS) requirements for rock shrimp fishermen transiting through the Oculina Bank HAPC; expand a portion of the western boundary of the Stetson Reefs, Savannah and East Florida Lithotherms, and Miami Terrace Deepwater Coral HAPC (CHAPC) (Stetson-Miami Terrace CHAPC), including modifications to the shrimp access area A, which is proposed to be renamed “shrimp access area 1”; and expand a portion of the northern boundary of the Cape Lookout Lophelia Banks Deepwater CHAPC (Cape Lookout CHAPC). In addition, this proposed rule makes a minor administrative change to the names of the shrimp fishery access areas. The purpose of the proposed rule is to increase protection for deepwater coral based on new information for deepwater coral resources in the South Atlantic. The public comment period for the proposed rule ends on July 3, 2014.

Need for Correction

During the comment period on the proposed rule, a member from the public identified to NMFS that the increase of the size of the Oculina Bank HAPC included in the preamble of the proposed rule was incorrect. NMFS agrees and publishes this notification to correct that mistake.

Correction

In the Federal Register of June 3, 2014, in FR Doc. 2014-12655, on page 31908, in the second column, second paragraph, the fifth sentence is corrected to read as follows:

“If implemented, this proposed rule would increase the size of the Oculina Bank HAPC by 343.42 square miles (889.5 square km), for a total area of 632.42 square miles (1,638 square km) and, except for a limited transit provision described below, would extend these prohibitions to the larger area, and increase protection of coral.”

Authority: 16 U.S.C. 1801 et seq.

Dated: June 25, 2014.
Eileen Sobeck,
Assistant Administrator for Fisheries, National Marine Fisheries Service.

[FR Doc. 2014-15414 Filed 6-26-14; 4:15 pm]

BILLING CODE 3510-22-P